DEPARTMENT OF ENERGY

Federal Energy Regulatory Commission

[Docket No. IC19-34-000]

Commission Information Collection Activities (FERC-725J) Comment Request; Extension

AGENCY: Federal Energy Regulatory Commission.

ACTION: Notice of information collection and request for comments.

SUMMARY: In compliance with the requirements of the Paperwork Reduction Act of 1995 (PRA), the Federal Energy Regulatory Commission (Commission or FERC) is soliciting public comment on the currently approved information collection, FERC-725J (Definition of the Bulk Electric System) which will be submitted to the Office of Management and Budget (OMB) for a review of the information collection requirements.

DATES: Comments on the collection of information are due October 15, 2019.

ADDRESSES: You may submit comments (identified by Docket No. IC19-34-000) by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-725J (Definition of the Bulk Electric System).

OMB Control No.: 1902-0259.

Type of Request: Three-year extension of the FERC-725J with no changes to the current reporting requirements.

Abstract: On December 20, 2012, the Commission issued Order No. 773, a Final Rule approving NERC's modifications to the definition of bulk electric system and the Rules of Procedure exception process to be effective July 1, 2013. On April 18, 2013, in Order No. 773-A, the Commission largely affirmed its findings in Order No. 773. In Order Nos. 773 and 773-A, the Commission directed NERC to modify the definition of bulk electric system in two respects: (1) Modify the local network exclusion (exclusion E3) to remove the 100 kV minimum operating voltage to allow systems that include one or more looped configurations connected below 100 kV to be eligible for the local network exclusion; and (2) modify the exclusions to ensure that generator interconnection facilities at or above 100 kV connected to bulk electric system generators identified in inclusion I2 are not excluded from the bulk electric system.¹

¹ Revisions to Electric Reliability Organization Definition of Bulk Electric System and Rules of Procedure, Order No. 773, 141 FERC 61,236 (2012); order on reh'g, Order No. 773-A, 143 FERC 61,053 (2013); order on reh'g and clarification, 144 FERC 61,174 (2013); aff'd sub nom., People of the State of New York and the Pub. Serv. Comm'n of New York v. FERC, No. 13-2316 (2d. Cir. 2015). On June 13, 2013, the Commission granted NERC's request for extension of time and extended the effective date for the revised definition of bulk electric system and the Rules of Procedure exception process to July 1, 2014. Revisions to Electric Reliability Organization Definition of Bulk Electric System and Rules of Procedure, 143 FERC 61,231, at P 13 (2013). On March 20, 2014, the Commission approved NERC's revisions to the definition of bulk electric system and determined the revisions either adequately address the Commission's Order Nos. 773 and 773-A directives or provide an equally effective and efficient approach. See order approving revised definition, 146 FERC ¶ 61,199 (2014).

Type of Respondents: Generator owners, distribution providers, other NERC-registered entities.

Estimate of Annual Burden.² The Commission estimates the annual public reporting burden and cost ³ for the information collection as:

² Burden is defined as the total time, effort, or financial resources expended by persons to generate, maintain, retain, or disclose or provide information to or for a federal agency. See 5 CFR 1320 for additional information on the definition of information collection burden.

³ The estimated hourly cost (salary plus benefits) is based on the figures for May 2018 posted by the Bureau of Labor Statistics for the Utilities sector (available at http://www.bls.gov/oes/current/naics2_22.htm) and updated March 2019 for benefits information (at http://www.bls.gov/news.release/ecec.nr0.htm). The hourly estimates for salary plus benefits are:

—Legal (code 23-0000), $142.86

—File Clerks (code 43-4071), $34.50

—Electrical Engineer (code 17-2071), $68.17

The average hourly burden cost for this collection is $81.84 [($142.86 + $34.50 + $68.17) / 3 = $81.84] and is rounded to $82.00 an hour.

FERC-725J (Definition of the Bulk Electric System)
| Number of respondents | Annual number of responses per respondent | Total number of responses | Average burden (hrs.) & cost ($) per response | Total annual burden hours & total annual cost ($) | Cost per respondent ($)
| (1) | (2) | (1) * (2) = (3) | (4) | (3) * (4) = (5) | (5) ÷ (1)
Generator Owners, Distribution Providers, and Transmission Owners (Exception Request) | 20 | 1 | 20 | 94 hrs.; $7,708 | 1,880 hrs.; $154,160 | $7,708
All Registered Entities (Implementation Plans and Compliance) | 186 | 1 | 186 | 350 hrs.; $28,700 | 65,100 hrs.; $5,338,200 | 28,700
Local Distribution Determinations | 1 | 1 | 1 | 92 hrs.; $7,544 | 92 hrs.; $7,544 | 7,544
Total |  |  | 207 |  | 67,072 hrs.; $5,499,904 |

Comments: Comments are invited on: (1) Whether the collection of information is necessary for the proper performance of the functions of the Commission, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

Dated: August 7, 2019.
Kimberly D. Bose,
Secretary.

[FR Doc. 2019-17250 Filed 8-12-19; 8:45 am]

BILLING CODE 6717-01-P